NATIONAL FOUNDATION ON THE ARTS AND HUMANITIES

Cooperative Agreement to Develop, Offer, and Evaluate an Instructor-Mediated Online Course To Train Library and Museum Personnel to Plan and Evaluate Outcomes-Based Projects

AGENCY: Institute of Museum and Library Services, National Foundation on the Arts and Humanities.

ACTION: Notification of availability.

SUMMARY: The Institute of Museum and Library Services is requesting proposals leading to one (1) award of a Cooperative Agreement to accomplish the following (1) develop, pilot, deploy, and evaluate a packaged instructor-mediated online course to train library and museum personnel to plan and evaluate outcomes-based projects, (2) compare the effectiveness of that course to an analogous existing workshop, and (3) develop a widely usable cost model for developing and offering such a course. Organizations eligible for the award include public and not-for-profit institutions of higher education, all types of libraries (except federal and for-profit libraries), library consortia, all types of public and not-for-profit museums, and museum consortia. Federally operated and for-profit museums may not apply for IMLS funds. Professional associations serving the museum or library field are eligible. Research libraries that give the public access to services and materials suitable for scholarly research not otherwise available to the public and that are not part of a university or college are eligible. The Cooperative Agreement will be for up to three years. The award amount will be up to $1,000,000. Those interested in receiving the application guidelines should see the following address information.

DATES: The program guidelines are scheduled for release and posting on the Internet on approximately June 1, 2004. Proposals are due September 15, 2004.

ADDRESSES: The program guidelines will be posted to the Institute's Web site at http://www.imls.gov/whatsnew/current/outcomescourse.htm on approximately June 1, 2004. For a copy of the proposal guidelines contact: Susan Malbin, Program Officer, Office of Library Services, Room 802, Institute of Museum and Library Services, 1100 Pennsylvania Avenue, NW., Washington, DC 20506, telephone 202-606-5389, e-mail smalbin@imls.gov.

FOR FURTHER INFORMATION CONTACT: Susan Malbin, Program Officer, Office of Library Services, Room 802, Institute of Museum and Library Services, 1100 Pennsylvania Avenue, NW., Washington, DC 20506, telephone 202-606-5389, e-mail smalbin@imls.gov.

Dated: May 27, 2004.
Rebecca Danvers,
Director of Research and Technology.

[FR Doc. 04-12507 Filed 6-2-04; 8:45 am]

BILLING CODE 7036-01-M